DEPARTMENT OF DEFENSE

GENERAL SERVICES ADMINISTRATION

NATIONAL AERONAUTICS AND SPACE ADMINISTRATION

48 CFR Chapter 1

Federal Acquisition Regulation; Small Entity Compliance Guide

AGENCIES: Department of Defense (DoD), General Services Administration (GSA), and National Aeronautics and Space Administration (NASA).

ACTION: Small Entity Compliance Guide.

SUMMARY: This document is issued under the joint authority of the Secretary of Defense, the Administrator of General Services and the Administrator for the National Aeronautics and Space Administration. This Small Entity Compliance Guide has been prepared in accordance with Section 212 of the Small Business Regulatory Enforcement Fairness Act of 1996. It consists of a summary of rules appearing in Federal Acquisition Circular (FAC) 2001-19 which amend the FAR. An asterisk (*) next to a rule indicates that a regulatory flexibility analysis has been prepared. Interested parties may obtain further information regarding these rules by referring to FAC 2001-19, which precedes this document. These documents are also available via the Internet at http://www.arnet.gov/far.

FOR FURTHER INFORMATION CONTACT: Laurie Duarte, FAR Secretariat, (202) 501-4225. For clarification of content, contact the analyst whose name appears in the table below.

List of Rules in FAC 2001-19
Item | Subject | FAR case | Analyst
I | New Consolidated Form for Selection of Architect-Engineer Contractors | 2000-608A | Davis.
II | Free Trade Agreements—Chile and Singapore, and Trade Agreements Thresholds (Interim) | 2003-016 | Davis.

Item I—New Consolidated Form for Selection of Architect-Engineer Contractors (FAR Case 2000-608A)

This amendment to final rule, FAR Case 2000-608, New Consolidated Form for Selection of Architect-Engineer Contractors, changes the effective date from January 12, 2004, to June 8, 2004. This final rule was published in FAC 2001-018 in the Federal Register at 68 FR 69227, December 11, 2003. This amendment also eliminates the reference to an applicability date. By changing the effective date, it allows the users of the SF 330 more time to prepare before the SF 330 is effective.

Item II—Free Trade Agreements—Chile and Singapore, and Trade Agreements Thresholds (Interim) (FAR Case 2003-016)

This interim rule amends FAR parts 5, 12, 13, 14, 17, 19, 22, 25, and 52 to implement new Free Trade Agreements with Chile and Singapore, as approved by Congress (Pub. L. 108-77 and 108-78). These Free Trade Agreements are scheduled to go into effect January 1, 2004. Singapore is already a designated country under the Trade Agreements Act, but Chile was not previously a designated country. The threshold under these Free Trade Agreements for acquisition of end products and services is $58,550 and the threshold for construction contracts is $6,725,000. In acquisitions that exceed these thresholds and are subject to trade agreements, this rule allows the acquisition of end products or construction material from Chile or Singapore without application of the Buy American Act, and provides for certain procedures in the acquisition of services, unless the service is excluded from coverage by the trade agreement. The interim rule directs the contracting officer to determine the origin of a service by the country in which the firm providing the services is established. The interim rule also implements new dollar thresholds for application of trade agreements, as published by the U.S. Trade Representative in the Federal Register at 68 FR 70861, December 19, 2003. Contracting officers must review the new thresholds in order to select the appropriate clauses to implement the Buy American Act, trade agreements, and sanctions of European Union country end products and services.

Dated: December 30, 2003.
Laura Auletta,
Director, Acquisition Policy Division.

[FR Doc. 04-179 Filed 1-6-04; 8:45 am]

BILLING CODE 6820-EP-P